DEPARTMENT OF LABOR

Employment and Training Administration

[TA-W-59,451]

Columbian Chemicals Company, Proctor, WV; Notice of Termination of Investigation

Pursuant to Section 221 of the Trade Act of 1974, as amended, an investigation was initiated on May 24, 2006 in response to a worker petition filed by a company official on behalf of workers of Columbian Chemicals Company, Proctor, West Virginia.

The petition is a duplicate petition filed under case number TA-W-59,361. Consequently, this investigation has been terminated.

Signed at Washington, DC this 1st day of June, 2006.
Elliott S. Kushner,
Certifying Officer, Division of Trade Adjustment Assistance.

[FR Doc. E6-10518 Filed 7-5-06; 8:45 am]

BILLING CODE 4510-30-P[?USGPO Galley End:?]